DEPARTMENT OF VETERANS AFFAIRS

Genomic Medicine Program Advisory Committee; Notice of Meeting

The Department of Veterans Affairs (VA) gives notice under Public Law 92-463 (Federal Advisory Committee Act) that the Genomic Medicine Program Advisory Committee will meet on November 20, 2008 at the Almas Conference Center, Oasis Room, 1315 K Street, NW., Washington, DC. The meeting will convene at 8 a.m. and adjourn at 5 p.m. The meeting is open to the public.

The purpose of the Committee is to provide advice and make recommendations to the Secretary of Veterans Affairs on using genetic information to optimize medical care of veterans and to enhance development of tests and treatments for diseases particularly relevant to veterans.

The Committee will receive program updates including planned responses to recommendations, and will be asked to continue to provide insight into optimal ways for VA to incorporate genomic information into its health care program while applying appropriate ethical oversight and protecting the privacy of veterans. The meeting focus will include discussions on resource development, including family history tool development and genomics research database for the genomic medicine program.

Members of the public may provide statements (limited to 5 minutes each) during the period reserved for public comments. They may also submit, at the time of the meeting, a 1-2 page summary of their comments for inclusion in the official meeting record. Any member of the public seeking additional information should contact Dr. Sumitra Muralidhar, Designated Federal Officer, at sumitra.muralidhar@va.gov.

Dated: October 21, 2008.
By Direction of the Secretary.
E. Philip Riggin,
Committee Management Officer.

[FR Doc. E8-25575 Filed 10-24-08; 8:45 am]

BILLING CODE 8320-01-P